FEDERAL COMMUNICATIONS COMMISSION

[DA 00-2013]

Wireless Telecommunications Bureau Opens Filing Window for Requests To Be a Frequency Coordinator in the Wireless Medical Telemetry Service

AGENCY: Federal Communications Commission.

ACTION: Notice.

SUMMARY: The Public Notice announces a filing window for requests to be a designated frequency coordinator in the Wireless Medical Telemetry Service, (WMTS). WTB will accept requests for certification beginning September 29, 2000, and ending October 10, 2000. Requests received before or after these dates will not be considered. Entities interested in serving as a WMTS frequency coordinator should familiarize themselves with the Commission's Rules pertaining to the WMTS.

ADDRESSES: Federal Communications Commission, 445 12th Street, SW, Washington, DC 20554.

FOR FURTHER INFORMATION CONTACT: Jeff Tobias, Wireless Telecommunications Bureau, Public Safety and Private Wireless Division, (202) 418-1617.

SUPPLEMENTARY INFORMATION: The Public Notice was released on September 28, 2000. The document is available, in entirety, for inspection and copying during normal business hours in the FCC Reference Center (Room CY-A-257), 445 12th Street, SW, Washington, DC 20554. It may also be purchased from the Commission's copy contractor, International Transcription Services, Inc. (ITS, Inc.) 1231 20th Street, NW, Washington, DC 20036, (202) 857-3800. For background information, a copy of the R&O in ET Docket No. 99-255 can be found on the Commission's web page. The Commission's website is http://www.fcc.gov/Bureaus/Wireless/Orders/2000/fcc00076.pdf.

Summary of the Public Notice

The Commission adopted a Report and Order (R&O) establishing a new WMTS. The WMTS is intended to enhance the ability of health care providers to offer high quality and cost-effective care to patients with acute and chronic health care needs. While WMTS equipment will be licensed by rule, the Commission concluded that it was necessary to designate a frequency coordinator(s) to maintain a database of all WMTS equipment identified by location, operating frequency, emission type and output power. The Commission believed that the database will provide a record of the frequencies used by each facility or device to assist parties in selecting frequencies to avoid interference. The Commission envisioned that the database would be used by users eligible for the WMTS and manufacturers to plan for specific frequency use within a geographic area.

1. WMTS Frequency Coordinator Duties and Responsibilities. The designated WMTS frequency coordinator(s) must be familiar with the medical telemetry user community, and must make its services available to all parties on a first-come, first-served and non-discriminatory basis. The WMTS frequency coordinator(s) must be willing to serve a five-year term, which could be renewed by the Commission. The WMTS frequency coordinator(s) will be permitted to set the fee structure associated with such frequency coordination as necessary to recoup costs. Pursuant to § 95.1113 of the Commission's Rules, a WMTS frequency coordinator will be required to: (i) Review and process coordination requests submitted by authorized health care providers as required in 47 CFR 95.1111; (ii) maintain a database of WMTS use; (iii) notify users of potential conflicts; and (iv) coordinate WMTS operation with radio astronomy observatories and Federal Government radar systems as specified in 47 CFR 95.1119 and 95.1121.

2. Each request for designation as a WMTS frequency coordinator must be signed and indicate the name and telephone number of a contact person familiar with the request. Each request must include:

(i) a description of the entity requesting to be a WMTS frequency coordinator and its qualifications;

(ii) how it will prevent any conflicts of interest;

(iii) its proposed fee structure;

(iv) length of time before applicant will be able to begin its duties as a WMTS frequency coordinator;

(v) a statement that the applicant will be able and willing to work with other WMTS frequency coordinators should WTB decide to designate more than one frequency coordinator, and

(vi) the geographic area(s) for which the applicant is willing to coordinate.

3. WTB will base its decision on the information provided. Preference will be given to applicants who can provide nationwide coordination. Once a decision has been made, the name(s) and address(es) of the designated WMTS coordinator(s) will be announced by Public Notice.

4. Requests for designation as a WMTS frequency coordinator must reference this Public Notice, including the DA number, and be filed with the Office of the Secretary, Federal Communications Commission, 445 12th Street, SW., TW-A325, Washington DC 20554. A copy of each filing should be sent to International Transcription Service, Inc. at 1231 20th Street, NW., Washington, DC 20036, and Jeffrey Tobias, Federal Communications Commission, Wireless Telecommunications Bureau, Public Safety and Private Wireless Division, Policy and Rules Branch, 445 12th Street, SW., 2-C828, Washington, DC 20554.

Federal Communications Commission.
D'Wana R. Terry,
Chief, Public Safety and Private Wireless Division, Wireless Telecommunications Bureau.

[FR Doc. 00-25557 Filed 10-4-00; 8:45 am]

BILLING CODE 6712-01-P